ENVIRONMENTAL PROTECTION AGENCY

[OECA-2003-0048; FRL-7512-2]

Agency Information Collection Activities; Submission of EPA ICR No. 1060.12 (OMB No. 2060-0038) to OMB for Review and Approval; Comment Request

AGENCY: Environmental Protection Agency.

ACTION: Notice.

SUMMARY: In compliance with the Paperwork Reduction Act (44 U.S.C. 3501 et seq.), this document announces that the following Information Collection Request (ICR) has been forwarded to the Office of Management and Budget (OMB) for review and approval: NSPS for Steel Plants: Electric Arc Furnaces and Argon-Oxygen Decarburization Vessels (Renewal). This ICR describes the nature of the information collection and its estimated burden and cost.

DATES: Additional comments may be submitted on or before July 14, 2003.

ADDRESSES: Follow the detailed instructions under SUPPLEMENTARY INFORMATION.

FOR FURTHER INFORMATION CONTACT: María Malavé, Compliance Assessment and Media Programs Division, Mail Code 2223A, Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On September 26, 2002 (67 FR 60672), EPA sought comments on this ICR pursuant to 5 CFR 1320.8(d). EPA received no comments.

EPA has established a public docket for this ICR under Docket ID Number OECA-2003-0048, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1514. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to OMB and EPA within 30 days of this notice, and according to the following detailed instructions: (1) Mail your comments to OMB at: Office of Information and Regulatory Affairs, Office of Management and Budget (OMB), Attention: Desk Officer for EPA, 725 17th Street, NW., Washington, DC 20503, and (2) Submit your comments to EPA online using EDOCKET (our preferred method), by e-mail to docket.oeca@epa.gov, or by mail to: EPA Docket Center, Environmental Protection Agency, Enforcement and Compliance Docket and Information Center, Mail Code 2201T, 1200 Pennsylvania Avenue, NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NSPS for Steel Plants: Electric Arc Furnaces and Argon-Oxygen Decarburization Vessels (40 CFR part 60, subparts AA and AAa) (Renewal) (OMB Control Number 2060-0038, EPA ICR Number 1060.12). This is a request to renew an existing approved collection that is scheduled to expire on June 30, 2003. Under OMB regulations, the Agency may continue to conduct or sponsor the collection of information while this submission is pending at OMB.

Abstract: The New Source Performance Standards (NSPS) for electric arc furnaces were proposed on October 21, 1974 (39 FR 37466) and promulgated on September 23, 1975 (40 CFR 43850). These standards apply to the following affected facilities in steel plants that produce carbon, alloy, or specialty steels: Electric arc furnaces (EAFs) and dust handling systems commencing construction, modification or reconstruction after the date of proposal and on or before August 17, 1983. A review of subpart AA in 1980 resulted in the promulgation of a new standard (NSPS, subpart AAa). The review of NSPS subpart AA found that fugitive emissions capture technology had improved since promulgation of NSPS subpart AA, and that argon-oxygen decarburization (AOD) vessels are a significant source of particulates in specialty steel shops. NSPS, subpart AAa was proposed on August 17, 1983 and promulgated on October 31, 1984. The new standard established new standards applicable to EAFs, AOD vessels, and dust handling systems constructed, modified, or reconstructed after August 17, 1983. On March 2, 1999, the Agency promulgated a direct final rule to amend subparts AA and AAa in response to a petition made by the Common Sense Initiative Council, established under a charter approved pursuant to the Federal Advisory Committee Act (FACA), which approved daily visible emissions observations as an alternative to static pressure monitoring at an EAF with a direct shell evacuation system, and clarified some definitions.

In general, all NSPS standards require initial notifications, performance tests, and periodic reports. Owners or operators are also required to maintain records of the occurrence and duration of any startup, shutdown, or malfunction in the operation of an affected facility, or any period during which the monitoring system is inoperative. These notifications, reports, and records are essential in determining compliance, and are required of all sources subject to NSPS. Any owner or operator subject to the provisions of this part shall maintain a file of these measurements, and retain the file for at least two years following the date of such measurements, maintenance reports, and records.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 303 (rounded) hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Plants with electric arc furnaces, AOD vessels, and dust handling systems that produce carbon, alloy, or specialty steels.

Estimated Number of Respondents: 95.

Frequency of Response: Initial and semiannual.

Estimated Total Annual Hour Burden: 58,195 hours (rounded).

Estimated Total Capital and Operations & Maintenance (O&M) Annual Costs: $289,890 which includes $4,140 annualized capital/startup costs and $285,750 annual O&M costs.

Changes in the Estimates: There is an increase of 9,782 hours in the total estimated burden currently identified in the OMB Inventory of Approved ICR Burdens. This increase is due to an increase on the number of sources and revisions to the assumptions made to determine the industry burden. A net increase of 5 sources (90 to 95) was determined due to the inclusion of 10 steel forging facilities that use electric arc furnaces to develop intermediate products as affected facilities which offset the decreased (90 to 85) number of minimills. In addition, the increase is due to corrections made to the percentages used to evaluate the burden associated with the different types of activities sources are conducting to comply with the monitoring of stack emissions and the fugitive emissions monitoring requirements.

Dated: June 5, 2003.
Doreen Sterling,
Acting Director, Collection Strategies Division.

[FR Doc. 03-14875 Filed 6-11-03; 8:45 am]

BILLING CODE 6560-50-P